SMALL BUSINESS ADMINISTRATION

[Declaration of Disaster #3498]

State of Tennessee

(Amendment #1)

In accordance with a notice received from the Department of Homeland Security—Federal Emergency Management Agency, effective May 15, 2003, the above numbered declaration is hereby amended to include Bedford, Bledsoe, Bradley, Cannon, Coffee, Davidson, DeKalb, Hamilton, Lincoln, Marion, Marshall, Maury, McMinn, Meigs, Monroe, Polk, Rhea, Rutherford, Sequatchie, Warren, Wayne, Williamson and Wilson Counties in the State of Tennessee as disaster areas due to damages caused by severe storms, tornadoes and flooding occurring on May 4, 2003 and continuing.

In addition, applications for economic injury loans from small businesses located in the contiguous counties of Blount, Cumberland, Franklin, Giles, Grundy, Lawrence, Lewis, Loudon, Moore, Perry, Putnam, Roane, Smith, Trousdale, Van Buren and White in the State of Tennessee; Jackson, Lauderdale, Limestone and Madison Counties in the State of Alabama; Catoosa, Dade, Fannin, Murray, Walker and Whitfield Counties in the State of Georgia; and Cherokee, Graham and Swain Counties in the State of North Carolina may be filed until the specified date at the previously designated location. All other counties contiguous to the above named primary counties have been previously declared.

The economic injury number assigned to Alabama is 9V3700; Georgia is 9V3800; and North Carolina is 9V3900.

All other information remains the same, i.e., the deadline for filing applications for physical damage is July 7, 2003, and for economic injury the deadline is February 6, 2004.

(Catalog of Federal Domestic Assistance Program Nos. 59002 and 59008)

Dated: May 15, 2003.
Herbert L. Mitchell,
Associate Administrator for Disaster Assistance.

[FR Doc. 03-13106 Filed 5-23-03; 8:45 am]

BILLING CODE 8025-01-P